DEPARTMENT OF ENERGY

Notice of Procedure Requiring Designation of U.S. Resident Agent for Applicants and Authorization Holders That Neither Reside in Nor Have a Place of Business or Other Corporate Presence in the United States

AGENCY: Office of Fossil Energy, DOE.

ACTION: Notice of procedure.

SUMMARY: The Office of Fossil Energy (FE) of the Department of Energy (DOE) is hereby notifying both applicants for authorizations to import or export natural gas, including liquefied natural gas (LNG), and the current holders of such authorizations that neither reside in nor have a place of business or other corporate presence in the United States that they must identify an agent resident within the United States to receive service of legal process. This notice applies to any such applicant and/or authorization holder that has not already identified a U.S. agent in its existing proceeding in a filing or other correspondence with DOE/FE.

DATES: This procedural change is effective March 4, 2015. Those affected by the change must comply by April 3, 2015.

ADDRESSES: Submissions of information required by this procedure can be made using one of the following:

Electronic Filing by Email

fergas@hq.doe.gov.

Regular Mail

U.S. Department of Energy (FE-34), Office of Oil and Gas Global Security and Supply, Office of Fossil Energy, P.O. Box 44375, Washington, DC 20026-4375.

Hand Delivery or Private Delivery Services (e.g., FedEx, UPS, etc.)

U.S. Department of Energy (FE-34), Office of Oil and Gas Global Security and Supply, Office of Fossil Energy, Forrestal Building, Room 3E-042, 1000 Independence Avenue SW., Washington, DC 20585.

FOR FURTHER INFORMATION CONTACT:

Larine Moore or Beverly Howard, U.S. Department of Energy (FE-34), Office of Oil and Gas Global Security and Supply, Office of Fossil Energy, Forrestal Building, Room 3E-042, 1000 Independence Avenue SW., Washington, DC 20585, (202) 586-9478; (202) 586-9387.

Edward B. Myers, Cassandra S. Bernstein, U.S. Department of Energy, Office of the Assistant General Counsel for Electricity and Fossil Energy, Forrestal Building, 1000 Independence Ave. SW., Washington, DC 20585, (202) 586-3397, (202) 586-9793.

SUPPLEMENTARY INFORMATION: DOE is authorized under the Natural Gas Act, 15 U.S.C. 717b(a), (c), to regulate the import and export of natural gas to or from the United States.¹ As the number of applicants and authorization holders regulated under these statutory provisions continues to increase, DOE/FE is aware that many such applicants and authorization holders neither reside in nor have a place of business or other corporate presence in the United States. Applications to import or export natural gas are informal adjudications conducted in accordance with DOE regulations, 10 CFR part 590, and the Administrative Procedure Act, 5 U.S.C. 551, et seq. Applicants therefore must be available to receive and respond to timely service of process of DOE/FE orders and other filings, including pleadings submitted by parties in application proceedings. Additionally, authorization holders are subject to continuing agency jurisdiction and to terms, conditions, and reporting and recordkeeping requirements set forth in each authorization. To monitor and enforce compliance with its authorizations, DOE/FE must have the means to serve legal process on authorization holders within the United States.

¹ The authority to regulate the imports and exports of natural gas, including liquefied natural gas, under section 3 of the NGA (15 U.S.C. 717b) has been delegated to the Assistant Secretary for FE in Redelegation Order No. 00-006.02 issued on November 17, 2014.

Accordingly, DOE/FE has determined that applicants and authorization holders that neither reside in nor have a place of business or other corporate presence in the United States must identify an agent within the jurisdiction of the United States to receive service of process regarding their pending application or existing authorization, respectively. As noted above, this action will help to ensure that all applicants and authorization holders are notified promptly of any agency or party filing in their proceeding, and that DOE/FE has the means to monitor and enforce compliance with the terms, conditions, and other requirements of its authorizations.

Compliance with this procedural change shall be accomplished in the following manner: Within 30 days of the date of publication of this Notice in the Federal Register, all applicants and authorization holders that do not reside in the United States and do not have a place of business or other corporate presence in the United States must provide DOE/FE with the name, address, and telephone number of an agent in the United States designated to receive service of legal process in connection with their pending application(s) and/or existing authorization(s). This requirement does not apply to any such applicant and/or authorization holder that has already identified a U.S. agent in its existing proceeding in a filing or other correspondence with DOE/FE.

For purposes of complying with this procedural requirement, the U.S. agent may be a natural person residing in the United States, a U.S. corporation, or a foreign corporation registered to conduct business in the United States (including the applicant or authorization holder itself), provided that the domestic or foreign corporation has a business address in the United States and is authorized by its articles of incorporation to act as agent.

Submissions shall include the docket number and the order number(s) (if appropriate), the agent's name and complete U.S. address, and the consent of the applicant or authorization holder to service of process on the designated agent as long as the authority of the agent continues. This requirement shall be a continuing obligation of applicants and authorization holders. Accordingly, it shall be incumbent upon applicants and authorization holders to designate a new agent in the event an agent discontinues its service as agent.

Issued in Washington, DC, on February 26, 2015.
John A. Anderson,
Director, Office of Oil and Gas Global Security and Supply, Office of Oil and Natural Gas.

[FR Doc. 2015-04461 Filed 3-3-15; 8:45 am]

BILLING CODE 6450-01-P